DEPARTMENT OF HEALTH AND HUMAN SERVICES

Administration for Children and Families

Submission for OMB Review; Comment Request

Administration for Native Americans (ANA) On-Going Progress Report (OPR) and Objective Work Plan (OWP).

OMB No.: 0970-0452.

Description: Content changes are being made to the Objective Progress Report, now known as the On-going Progress Report (OPR) previously approved under information collection (OMB No. 0980-0204. ANA reduced and renumbered the OPR questions to allow for the collection of information necessary for the ongoing monitoring of grantee progress and performance of their grant award. The majority of information requested from the grantees is less than previous OPR versions and includes edits for clarification and simplification purposes.

The information in the OPR is collected on a semi-annual basis to monitor the performance of grantees and better gauge grantee progress. The semi-annual data collection replaces the previous quarterly filing requirement of the OPR.

The Objective Work Plan information collection is conducted in accordance with 42 U.S.C. of the Native American Programs Act of 1972, as amended. This collection is necessary to evaluate applications for financial assistance and determine the relative merits of the projects for which such assistance is requested, as set forth in Sec. 806 [42 U.S.C. 2991d-1](a)(1).

The Ongoing Progress Report information collection is conducted in accordance with Sec. 811 [42 U.S.C. 2992] of the Native American Programs Act and will allow ANA to report quantifiable results across all program areas. It also provides grantees with parameters for reporting their progress and helps ANA better monitor and determine the effectiveness of their projects.

Respondents:

Annual Burden Estimates
Instrument | Number of respondents | Number of responses per respondent | Average burden hours per response | Total burden hours
OWP | 500 | 1 | 3 | 1,500
OPR | 275 | 2 | 1 | 550

Estimated Total Annual Burden Hours: 2,050.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-19061 Filed 9-7-17; 8:45 am]

BILLING CODE 4184-01-P